FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 30, 2019.

A. Federal Reserve Bank of Chicago (Colette A. Fried, Assistant Vice President) 230 South LaSalle Street, Chicago, Illinois 60690-1414:

1. Nancy Rigler as trustee of the Nancy Rigler Trust; the Nancy Rigler Trust, both of De Kalb, Illinois; John P. Rigler II as trustee of the John P. Rigler II Trust; the John P. Rigler II Trust, both of New Hampton, Iowa; John P. Rigler III, personally and as trustee of the John P. Rigler III Trust; the John P. Rigler III Trust, both of Urbandale, Iowa; David A. Rigler, personally and as trustee of the David A. Rigler Trust; the David A. Rigler Trust, both of Waukee, Iowa; Hannah Rigler, personally and as trustee of the Hannah Rigler Trust; the Hannah Rigler Trust; both of Iowa City, Iowa; Joi Povlsen Dundas, personally and as trustee of the Nancy Rigler Family Irrevocable Trust FBO Joi Dundas; the Nancy Rigler Family Irrevocable Trust FBO Joi Dundas, both of Stillman Valley, Illinois; altogether with Paul Kristian Povlsen IV, personally and as trustee of the Nancy Rigler Family Irrevocable Trust FBO Paul Kristian Povlsen IV; the Nancy Rigler Family Irrevocable Trust FBO Paul Kristian Povlsen IV, both of Flagstaff, Arizona; as a group acting in concert to join the Rigler Family Control Group to retain shares of Rigler Investment Company, and thereby indirectly retain shares of Green Circle Investments Inc. and Peoples Bank, all of Clive, Iowa.

Board of Governors of the Federal Reserve System, August 12, 2019.
Yao-Chin Chao,
Assistant Secretary of the Board.

[FR Doc. 2019-17545 Filed 8-14-19; 8:45 am]

BILLING CODE P